DEPARTMENT OF COMMERCE

International Trade Administration

Clean Energy and Environment Trade Mission to China and India

AGENCY: International Trade Administration, U.S. Department of Commerce.

ACTION: Notice.

SUMMARY: Clean Energy and Environment Trade Mission to China and India.

DATES: September 1-12, 2008.

FOR FURTHER INFORMATION CONTACT: Brian O'Hanlon at brian.ohanlon@mail.doc.gov or Debra Delay at debra.delay@mail.doc.gov or visit the mission Web site at http://www.export.gov/cleanenergymission.

SUPPLEMENTARY INFORMATION: Mission Description: The United States Department of Commerce, International Trade Administration, is organizing a Clean Energy and Environment Trade Mission to China and India, September 1-12, 2008. The trade mission will target a broad range of clean energy and environmental technologies such as renewable energy, biofuels, energy efficiency, clean coal, distributed generation, waste handling and treatment, wastewater treatment, packaging recycling, and drinking water treatment. The mission will make stops in Beijing, Jinan, and Shanghai, China as well as New Delhi, Hyderabad, and Mumbai, India. It will be led by Assistant Secretary of Commerce David Bohigian.

Through this mission, ITA seeks to match participating U.S. companies with prescreened partners, agents, distributors, representatives, licensees, or retailers in each of these important sectors. In addition to one-on-one business meetings, the agenda will also include meetings with national and local government officials, networking opportunities, country briefings, seminars, and site visits.

Background: This mission builds on two previous U.S. Clean Energy Technologies Trade Missions, which took place in April 2007 and January 2008. Each brought 17 U.S. companies to China and India. This trade mission takes place within the context of both the President's international framework on climate change, energy security, and economic growth involving the 15 major economies (the Global-15), as well as the Asia-Pacific Partnership on Clean Development and Climate (APP).

On May 31, 2007, President Bush announced an effort to develop and implement the Global-15 framework by 2012, which would complement the current United Nations Framework Convention on Climate Change and advance the APP. The APP is a public-private partnership in which member countries work together to facilitate commercial deployment of technologies that reduce greenhouse gas emissions and enhance energy security.

The mission also builds on the work of the U.S.-China Joint Commission on Commerce and Trade. In December 2007, both countries committed to continued cooperation in the deployment of environmental technologies by launching the U.S.-China Environmental Industries Forum, an event sponsored by the China Association of Environmental Protection Industry.

China

China's rapid economic growth has been accompanied by widespread pollution and environmental degradation. This, combined with limited energy resources and inefficient use of energy, has caused the central government to make clean energy, environmental technologies, and energy efficiency a strategic priority. In the 11th Five-Year Plan (2005-2010), the government has set the targets of reducing energy intensity per unit of GDP by 20% and reducing emissions for major pollutants (e.g. carbon dioxide and sulphur dioxides) by 10%. The Chinese Government's recent passage of the new Renewable Energy Law has codified many of these mandates, including a renewable energy portfolio of at least 10 percent by 2020 (up from approximately 3 percent in 2003). This law is partly responsible for the increase in new renewable energy projects and offers U.S. producers an important opportunity to provide wind turbines, solar photovoltaics, waste-to-energy, biomass, geothermal, biofuels, and resource mapping technologies. Achieving the targets for wind energy alone (30 GW by 2020 from 1.2 GW in 2005) will require $21-28 billion in investment. China has already invested $12 billion in renewable energy capacity in 2007 and will most likely spend even more in 2008.

In addition to renewable energy, China has a substantial need for energy and environmental products that will render energy production from coal cleaner. Coal accounts for 69% of China's energy use and thus the need to develop clean coal technologies provides a substantial opportunity for U.S. producers of combined heat and power, coal beneficiation products, coal mine methane extraction technologies, gas turbines, circulating fluidized bed boilers, pollution control technologies such as desulphurization technologies, and coal conversion technologies such as advanced pulverized coal gasifiers.

In addition to air pollution and the need for cleaner, more efficient energy, water issues are among the top priorities of China's environmental protection plan. It is estimated that in the next five years, China will invest $175 billion in environmental protection, accounting for 1.3-1.4% of GDP.

All these initiatives underscore China's intention to deploy cleaner and more efficient technologies. U.S. technology providers with accurate market information and a sound business strategy have the potential to take advantage of the growing Chinese market for clean energy and environment technologies.

Beijing

With a population of over 15 million, China's capital, Beijing, offers unparalleled access to Chinese policymakers and institutions including the National Development and Reform Commission and the newly-created Ministry of Environment. Since China's energy and environmental sectors are regulated by the central government, interaction with these officials can be critical to a company's success.

There is also a strong local market for clean energy technologies in Beijing, due to its size, its political and economic importance, and the poor environmental conditions caused by development. Beijing is unique in China in its provincial status, which enables its municipal government to approve independent foreign investment projects up to a value of $30 million. This has positioned Beijing as an attractive location for foreign investment in China.

Beijing is also developing its own renewable energy policy, partly as a way to combat the effects of the nearly 1,000 new cars per day driving on the city's roads.

Jinan

With a population of 5.9 million, Jinan is the capital of China's Shandong Province. Jinan boasts a highly skilled workforce, is home to ten universities, and has over two hundred research institutions, including ten national labs. The city is host to heavy industry, textiles, IT, bioengineering, home appliances, and transportation tools companies. Shandong Province's energy intensive economy and environmental needs offers an array of opportunities to U.S. companies. In recent years, the province has invested over $13 billion on environmental projects including water treatment, industrial monitoring, and pollution prevention.

Jinan is also host to the 3rd International Exhibition on Green Industry and the Northeast Asia Environmental Protection Industry Fair, which brings together green technologies and buyers from across North Asia. Trade mission participants will receive special attention from the event's organizers as the first U.S. delegation to the exhibition.

Shanghai

Shanghai is known as the commercial and financial capital of China. With its strategic location at the mouth of China's longest river, the Yangtze, Shanghai also serves as the country's central transportation hub, offering a well-developed air, rail, sea, and road transportation infrastructure. In 2006, Shanghai registered 12 percent growth in its gross domestic product (GDP), the city's 15th consecutive year of double-digit growth. Its estimated population of 21 million people makes Shanghai the second largest city in China, after Chongqing. Per capita GDP is US$7,000, compared to the national average of US$2,800. Its strategic location, highly skilled workforce, and solid infrastructure make Shanghai a magnet for foreign direct investment (FDI). Contracted FDI for 2006 reached US$15 billion, up 5 percent from 2005, and realized FDI was US$7 billion. Shanghai hosts over 4,800 U.S.-invested firms, including GM, Intel, GE, Motorola, FedEx, and UPS.

Shanghai faces the same severe energy and environmental challenges as many of China's other cities. According to the Shanghai Municipal Government, 80 percent of Shanghai's 22,000 waterways and lakes are contaminated by substances such as petrochemicals, cyanides, mercury, cadmium, arsenic, and lead. In 2007, domestic sewage discharge reached 1.8 billion cubic meters; however, only 49.4 percent was treated in urban areas. Only 20 percent of water supplied by local rivers is drinkable, limiting the water available to residents to 1,050 cubic meters per capita—60 percent less than China's national average.

In an effort to reverse environmental degradation, Shanghai recently launched the multi-billion dollar Shanghai Urban Environment Plan, seeking to address urban planning and environmental needs for the city. The plan will require the Shanghai Water Authority to invest $725 million in the next few years, including a 1.3 million ton per day wastewater treatment plant, new pipe networks, pumping stations, and overall management and monitoring systems.

Shanghai recently overhauled its Clean Air Act and now mandates desulfurization systems on all new power plants and industrial facilities located in designated sulfur dioxide and acid rain control zones. The city is embarking on an ambitious campaign to curb vehicle emissions by phasing out leaded gasoline, issuing new tailpipe standards, developing alternative fuel technologies, and investing in emissions control and inspection equipment. And the government is beginning to enforce its comprehensive solid and hazardous waste law.

The Shanghai Municipal Government's energy strategy has focused on the diversification of energy supplies, increasing energy efficiency, and introducing clean energy technologies into the energy mix. Shanghai's energy demand has grown approximately 6-8% annually, while electricity demand has recently surged to over 10% a year. As a result, this focus is particularly reflected in the Shanghai's building codes have been changed to encourage energy efficient technologies and design.

Shanghai's government is also considering a “100,000” roofs initiative to add solar panels to homes and businesses. China's power grid company is developing a fleet of electric-only vehicles and plans to create a network of charging stations for the Beijing Olympics and the 2010 World Expo in Shanghai. Shanghai also plans to have a fleet of electric buses in time for the 2010 World Expo.

India

India is experiencing dramatic economic growth and a rapidly increasing demand for energy. Currently the world's fourth largest energy consumer, India will be the third-largest by 2030. Both India's cities and villages lack adequate energy; there is therefore a need to add on-grid and off-grid power generation. The Government of India has specified renewable energy in its development plans and has developed numerous government incentives. The federal government has set a goal of electrifying 18,000 remote villages and meeting 10 percent of its energy demand with clean energy by 2012. The Indian market for clean energy is estimated at $600 million with an annual growth rate of 25 percent. The current 8,000 MW of installed capacity is expected to reach 20,000 MW by 2012. India is currently experiencing annual growth of energy demand of 9 percent a year.

The clean energy market in India offers strong business prospects to U.S. companies, particularly in solar, biomass, gasification, wind, hydro, and solid and industrial waste-to-energy. The market for energy efficiency is estimated to be about $2 billion, concentrated especially in energy-intensive industries such as cement, aluminum, fertilizers, pulp and paper, petrochemicals, and steel.

New Delhi

New Delhi, India's capital, is not only the second largest city, but also the second-most favored foreign direct investment (FDI) destination in the country. Key industries and business opportunities in New Delhi include environmental technologies, renewable energy, and energy efficiency. The total Indian market for these goods and services is expected to grow to $9 billion in 2010. New Delhi is also the principal end-user of clean technology, fulfilling the Government of India's (GOI) directives on nation-wide deployment of environmental equipment and services. The size of New Delhi's need for energy and high pollution makes it an attractive market for large investments in clean technology projects, which is a key national priority.

Hyderabad

Hyderabad is the capital of the state of Andhra Pradesh and has a population of 7 million. Clean energy companies visiting Andhra Pradesh will find potential partners in the city's numerous energy intensive sectors including cement, steel, power plants, and defense industries.

The state agency, Non-Conventional Energy Development Corporation of Andhra Pradesh Ltd., implements numerous programs to support clean energy. The Andhra Pradesh government provides subsidies to all renewable energy technologies including wind, solar, hydro, and biogas. Hyderabad is also the epicenter for the Green Business Building push in India. The Confederation of Indian Industry's Green Business Center is located in Hyderabad. This showcase for Clean Energy enjoys support from ongoing U.S.-India partnerships operated by USAID and the State Government of Andhra Pradesh.

The Environment Protection Agency of India (EPTRI) is also located in Hyderabad, providing comprehensive training and research in environmental issues and concerns. The increasing population density and sustained efforts to improve the standard of living have created tremendous pressure on the environment. Approximately 10 percent of the geographical area and 19 percent of the cultivatable area of Andhra Pradesh requires environmental cleanup. Though there is domestic competition, Hyderabad therefore presents a tremendous opportunity for U.S. firms, which can provide a wide range of services.

Mumbai

Mumbai (formerly Bombay) is the capital of the state of Maharashtra and is home to over 16 million residents. As India's most industrialized state, Maharashtra leads India in energy consumption, produces sizeable quantities of pollutants, and has experienced frequent energy blackouts. A 5,000 MW energy shortfall has spurred innovative programs to promote clean energy. In fact, the Maharashtra Energy Development Agency is actively promoting additional power from solar, wind, biogas, and small hydro sources. One of India's premier research institutes, the Indian Institute of Technology Bombay, operates an active Energy Systems Engineering program with a particular focus on sustainable energy.

Small-scale industrial firms dominate the environmental technologies sector but there are a few engineering companies offering services and equipment as part of turnkey consulting services. This sector is growing at 10-12 percent annually. There is a growing demand for the technologies for solid waste, water and wastewater treatment, vehicular pollution and air pollution. Some of the advanced equipment required for treatment of biomedical waste is not manufactured domestically and must be imported—an opportunity for U.S. exporters. Imports constitute nearly 40 percent of the total market.

Mission Goals: The Trade Mission will facilitate market entry or increased sales into these significant markets for U.S. clean energy and environmental technologies and services firms, and will assist mission participants in gaining first-hand market information and access to key government officials and potential business partners.

Mission Scenario: In China and India, the International Trade Administration will:

• Provide a market briefing highlighting opportunities in the clean energy technologies sectors.

• Schedule one-on-one appointments with potential business partners for each participant.

• Provide a venue for the one-on-one appointments and provide interpreters as needed.

• Provide networking opportunities with the private and public sectors.

• Organize relevant site visits.

Summary of Results Expected From the Mission

• Increased U.S. clean energy and environmental technologies exports to China and India.

• Progress on addressing market access barriers to trade in clean energy and environmental technologies and services in China and India.

• Reduction of greenhouse gas emissions per unit of economic growth and the improvement of environmental conditions in China and India.

• Increased awareness of the President's new international climate change framework (“the Global-15”) and the Asia Pacific Partnership on Clean Development and Climate, and of ITA's trade policy and promotion programs.

Proposed Mission Timetable

Monday, September 1, 2008

Arrive in Beijing.

Welcome Reception.

Tuesday, September 2, 2008

Embassy Briefing.

U.S.-China Clean Energy and Environmental Technologies Forum.

Meeting with China's National Development and Reform Commission.

One-on-One Business Meetings.

Networking Reception.

Wednesday, September 3, 2008

Depart Beijing.

Arrive Jinan.

Participate in the Shandong International Exposition of Green Industry.

Government/Business Meetings.

Networking Reception.

Thursday, September 4, 2008

One-on-One Business Meetings.

Depart Jinan.

Arrive Shanghai.

Networking Dinner.

Friday, September 5, 2008

Consulate Briefing.

Government/Business Meetings.

One-on-One Business Meetings.

Networking Reception.

Saturday, September 6, 2008

Depart Shanghai.

Sunday, September 7, 2008

Arrive New Delhi.

Monday, September 8, 2008

Embassy Briefing.

Government/Business Meetings.

One-on-One Business Meetings.

Networking Reception.

Tuesday, September 9, 2008

Depart New Delhi.

Arrive Hyderabad.

Local Market Briefing.

One-on-One Business Meetings.

Networking Reception.

Wednesday, September 10, 2008

Depart Hyderabad.

Arrive Mumbai.

Government/Business Meetings.

One-on-One Business Meetings.

Networking Reception.

Thursday, September 11, 2008

Government/Business Meetings.

One-on-One Business Meetings.

Site Visit.

Friday, September 12, 2008

Depart Mumbai.

Participation Requirements

All parties interested in participating in this mission must complete and submit an application package for consideration by the Department of Commerce. All applicants will be evaluated on their ability to meet certain conditions and best satisfy the selection criteria as outlined below. No more than 25 companies will be selected to participate in the mission from the applicant pool.

Fees and Expenses

After a company has been selected to participate on the mission, a payment to the Department of Commerce in the form of a participation fee is required. The participation fee will be $5,400 per firm, which includes one principal representative. The fee for each additional firm representative is $1,000. For companies who wish to only participate in mission activities for one country the participation fee will be $3,500 per firm, which includes one principal representative. The fee for each additional firm representative is $750. Expenses for travel, lodging, some meals, and incidentals will be the responsibility of each mission participant.

Conditions for Participation

• An applicant must submit a completed and signed mission application and supplemental application materials, including adequate information on the company's: Products and/or services, primary market objectives, and goals for participation no later than July 21, 2008. If we receive an incomplete application, we reserve the right to either reject the application or take the lack of information into account when evaluating the applications. A mission application may be found at http://www.export.gov/cleanenergymission.

• Each applicant must also:

—Certify that the products or services it seeks to export through the mission are either produced in the United States, or, if not, marketed under the name of a U.S. firm and have at least fifty-one percent U.S. content;

—Certify that the export of the products or services that it wishes to export through the mission would be in compliance with U.S. export controls and regulations;

—Certify that it has identified to the Department of Commerce for its evaluation any business pending before the Department of Commerce that may present either a conflict of interest or the appearance of a conflict of interest;

—Certify that it has identified any pending litigation (including any administrative proceedings) to which it is a party that involves the Department of Commerce; and

—Sign and submit an agreement that it and its affiliates (1) have not and will not engage in the bribery of foreign officials in connection with the company's/participant's involvement in this mission, and (2) maintain and enforce a policy that prohibits the bribery of foreign officials.

Selection Criteria for Participation: Selection will be based on the following criteria in decreasing order of importance.

• Relevance of the company's business line to the mission scope and goals;

• Potential for business in the selected markets;

• Demonstrated export experience in China and/or India and/or globally;

• Participation in both the China and India portions of the mission;

• Rank/seniority of the designated company representative; and

• Diversity of sector participation.

Additional factors, such as diversity of company size, type, location, demographics, and traditional under-representation in business, may also be considered during the review process.

Invited companies must submit the trade mission participation fee and completed participation agreement within two weeks of receipt of their invitation in order to secure their place in the mission. After that time other companies may be invited to fill their spot. Applications received after the closing date will be considered only if space and scheduling constraints permit.

Referrals from political organizations and any documents, including the application, containing references to partisan political activities (including political contributions) will be removed from an applicant's submission and not considered during the selection process.

The mission will be promoted through the following venues: ITA's Export Assistance Centers; the Energy Team; the Environment Team; the Asia Pacific Team; the Africa, Near East, and South Asia Team; Global Trade Programs; the Trade Events List http://www.export.gov; industry newsletters; the Federal Register; the Asia-Pacific Partnership for Clean Development and Climate; relevant trade publications; relevant trade associations; past Commerce trade mission participants; various in-house and purchased industry lists; the Commerce Department trade missions calendar: http://www.ita.doc.gov/doctm/tmcal.html; and the Web: http://www.export.gov/cleanenergymission.

FOR FURTHER INFORMATION CONTACT:

Brian O'Hanlon, Office of Energy and Environment, U.S. Department of Commerce, E-mail: cleanenergymission@mail.doc.gov, Telephone: 202-482-3492.

Debra Delay, Global Environmental Technologies Deputy Team Leader, Boston U.S. Export Assistance Center, U.S. Department of Commerce, E-mail: debra.delay@mail.doc.gov, Telephone: 617-565-4302. Mission Web site: http://www.export.gov/cleanenergymission.

Dated: May 6, 2008.
Stephen Jacobs,
Deputy Assistant Secretary for Market Access and Compliance.

[FR Doc. E8-10450 Filed 5-8-08; 8:45 am]

BILLING CODE 3510-DR-P